ENVIRONMENTAL PROTECTION AGENCY

[EPA-HQ-OPPT-2016-0485; FRL-9955-35]

Certain New Chemicals; Receipt and Status Information for October 2016

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from October 3, 2016 to October 31, 2016.

DATES: Comments identified by the specific case number provided in this document, must be received on or before December 28, 2016.

ADDRESSES: Submit your comments, identified by docket identification (ID) number EPA-HQ-OPPT-2016-0485, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Jim Rahai (7407M), Office of Pollution Prevention and Toxics, Environmental Protection Agency, 1200 Pennsylvania Ave. NW., Washington, DC 20460-0001; telephone number: 202-564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitters of the actions addressed in this document.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This document provides receipt and status reports, which cover the period from October 3, 2016 to October 31, 2016, and consists of the PMNs and TMEs both pending and/or expired, and the NOCs to manufacture a new chemical that the Agency has received under TSCA section 5 during this time period.

III. What is the Agency's authority for taking this action?

Under TSCA, 15 U.S.C. 2601 et seq., EPA classifies a chemical substance as either an “existing” chemical or a “new” chemical. Any chemical substance that is not on EPA's TSCA Inventory is classified as a “new chemical,” while those that are on the TSCA Inventory are classified as an “existing chemical.” For more information about the TSCA Inventory, please go to: http://www.epa.gov/opptintr/newchems/pubs/inventory.htm.

Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic reports on the status of new chemicals under review and the receipt of NOCs to manufacture those chemicals.

IV. Receipt and Status Reports

As used in each of the tables in this unit, (S) indicates that the information in the table is the specific information provided by the submitter, and (G) indicates that the information in the table is generic information because the specific information provided by the submitter was claimed as CBI.

For the 36 PMNs received by EPA during this period, Table 1 provides the following information (to the extent that such information is not claimed as CBI): The EPA case number assigned to the PMN; The date the PMN was received by EPA; the projected end date for EPA's review of the PMN; the submitting manufacturer/importer; the potential uses identified by the manufacturer/importer in the PMN; and the chemical identity.

Table 1—PMNs Received From October 3, 2016 to October 31, 2016
Case No. | Received date | Projected notice end date | Manufacturer importer | Use | Chemical
P-16-0180 | 10/11/2016 | 1/9/2017 | CBI | (S) Component Of Industrial And Maintenance Coatings | (G) Isocyanic acid, polymethylenepolyphenylene ester, polymer with a-hydro-w-0;hydroxypoly[oxy(methyl-1,2-ethanediyl)] and alkylene oxide polymer, alkylamine initiated.
P-16-0271 | 10/27/2016 | 1/25/2017 | Oxea Corporation | (S) Flexible Pvc Plasticizer For Wire Insulation | (S) 1,2,4-benzenetricarboxylic acid, 1,2,4-trinonyl ester.
P-16-0308 | 10/21/2016 | 1/19/2017 | Itaconix Corp | (G) Reactive Monomer | (S) Butanedioic acid, 2-methylene-, 1,4-bis (2-methylpropyl) ester.
P-16-0330 | 10/6/2016 | 1/4/2017 | H.B. Fuller Company | (G) Industrial Adhesive | (G) Hydroxy functional triglyceride polymer with glycerol mono-ester and 1,1′-methylenebis[4-isocyanatobenzene].
P-16-0331 | 10/6/2016 | 1/4/2017 | H.B. Fuller Company | (G) Industrial Adhesive | (G) Hydroxy functional triglyceride polymer with glycerol mono-ester and 1,1′-methylenebis[isocyanatobenzene].
P-16-0336 | 10/25/2016 | 1/23/2017 | CBI | (G) Fuel Additive—Destructive Use | (G) Polyolefin ester.
P-16-0363 | 10/24/2016 | 1/22/2017 | CBI | (G) Open, Non-Dispersive | (G) Blocked polyester polyurethane, neutralized.
P-16-0372 | 10/5/2016 | 1/3/2017 | CBI | (G) Wetting And Dispersing Additive | (G) Polyester phosphate alkyl alkyl esters.
P-16-0427 | 10/3/2016 | 1/1/2017 | CBI | (G) Adhesive | (G) Alkanedioic acid polymer with ethenylbenzene alky-2-alkenoate, alkanediol, .alpha. ã¿â—ã¿â ã;¿â;¡-hydro-.omega.-hydroxypoly[oxyalkyl-alkanediyl)], hydroxyalkyl-alkyl-alkenoate, and aromatic isocyanate.
P-16-0509 | 10/20/2016 | 1/18/2017 | CBI | (G) For Packaging Application | (G) Modified ethylene-vinyl alcohol copolymer.
P-16-0541 | 10/6/2016 | 1/4/2017 | Specialty Organics, Inc | (S) Adhesive For Wood Particle/Chip/Fiberboard | (S) Soybean meal, reaction products with phosphoric trichloride.
P-16-0578 | 10/21/2016 | 1/19/2017 | CBI | (G) Reactive Polymer For Waterborne Coating Applications | (G) Alkenoic acid, alkyester, polymer with n-(dialkyl-oxoalkyl)-alkenamide, alkenylbenzene, alkyl alkenoate and alkenoic acid.
P-16-0582 | 10/25/2016 | 1/23/2017 | CBI | (S) Lubricity Additive For Industrial Oils And Other Lubricants; (S) Lubricity Additive For Automotive Engine Oil | (G) Carboxylic acids, polyalkyl unsaturated, oligomers, polymers with substituted alkyl alkenol and alkylpolyol.
P-16-0583 | 10/14/2016 | 1/12/2017 | CBI | (S) Sealant For Head Lamps Of Cars | (G) Aromatic hydrocarbon resin.
P-16-0591 | 10/4/2016 | 1/2/2017 | CBI | (G) Component Of Colorants; (G) Component Of Printing Ink | (G) Alkyl bis-phenol.
P-16-0597 | 10/25/2016 | 1/23/2017 | CBI | (G) Component Of Inkjet Printer Ink | (G) Substituted carbopolycyclic disulfonic acid, substituted disulfocarbomonocycle diazenyl-substituted sulfocarbomonocycle diazenyl, alkali metal salt.
P-16-0601 | 10/5/2016 | 1/3/2017 | CBI | (S) Export; (S) Active Component In Cross Linking Agent (Metal Passivator) | (G) Antimony based compound.
P-17-0001 | 10/5/2016 | 1/3/2017 | CBI | (G) Colorant Additive | (G) 2,5-furandione, telomer with ethenylbenzene and (1-methylethyl)benzene, reaction products with polyethylene-polypropylene glycol alkyl amino ether.
P-17-0002 | 10/24/2016 | 1/22/2017 | CBI | (G) Printing Ink Applications | (G) Styrene(ated) copolymer with alkyl(meth)acrylate, and (meth)acrylic acid.
P-17-0003 | 10/24/2016 | 1/22/2017 | CBI | (G) Printing Ink Applications | (G) Styrene(ated) copolymer with alkyl(meth)acrylate, and (meth)acrylic acid.
P-17-0007 | 10/18/2016 | 1/16/2017 | CBI | (S) Intermediate | (G) Alkyl substituted-dioxa thio substituted-ether diene.
P-17-0009 | 10/13/2016 | 1/11/2017 | CBI | (S) Intermediate For Use In The Manufacture Of Polymers | (G) Depolymerized waste plastics.
P-17-0010 | 10/14/2016 | 1/12/2017 | Allnex Usa Inc | (S) Uv Curable Coating Resin | (G) Alkyl substituted alkenoic acid, alkyl ester, polymer with alkyl substituted alkenoate and alkenoic acid, hydroxy substituted[(oxoalkyl)oxy]alkyl ester, reaction products with alkanoic acid, dipentaerythritol and isocyanate substituted carbomonocycle, compds. with alkylamine.
P-17-0011 | 10/18/2016 | 1/16/2017 | Colonial Chemical, Inc | (S) Creams And Lotions | (S) Octadecanoic acid, ester with 2,2′,2″-nitrilotris[ethanol].
P-17-0015 | 10/24/2016 | 1/22/2017 | CBI | (G) Precursor For Photochromic Substance | (G) Heteromonocycle ester with alkanediol.
P-17-0016 | 10/27/2016 | 1/25/2017 | CBI | (G) Polymer For Coatings | (G) Hydroxyl alkyl acrylate ester, polymer with acrylates, aromatic vinyl monomer, cycloaliphatic lactone, and alkyl carboxylic acid, peroxide initiated.
P-17-0017 | 10/27/2016 | 1/25/2017 | CBI | (G) Polymer For Coatings | (G) Hydroxyl alkyl acrylate ester, polymer with acrylates, aromaticvinyl monomer, cycloaliphatic lactone, and alkyl carboxylic acid, peroxide initiated.
P-17-0018 | 10/27/2016 | 1/25/2017 | CBI | (G) Polymer For Coatings | (G) Hydroxyl alkyl acrylate ester, polymer with acrylates, aromatic vinyl monomer, cycloaliphaticlactone, and alkyl carboxylic acid, azobis[aliphatic nitrile] initiated.
P-17-0019 | 10/27/2016 | 1/25/2017 | CBI | (G) Polymer For Coatings | (G) Hydroxyl alkyl acrylate ester, polymer with acrylates, aromatic vinyl monomer, cycloaliphatic lactone, and alkyl carboxylic acid, peroxide initiated.
P-17-0020 | 10/27/2016 | 1/25/2017 | CBI | (G) Polymer For Coatings | (G) Hydroxyl alkyl acrylate ester, polymer with acrylates, aromatic vinyl monomer, cycloaliphatic lactone, and alkyl carboxylic acid, peroxide initiated.
P-17-0021 | 10/27/2016 | 1/25/2017 | CBI | (G) Polymer For Coatings | (G) Hydroxyl alkyl acrylate ester, polymer with acrylates, aromatic vinyl monomer, cycloaliphatic lactone, and alkyl carboxylic acid, azobis[aliphatic nitrile] initiated.
P-17-0022 | 10/26/2016 | 1/24/2017 | Miwon North America, Inc | (S) Reactive Diluent For Optical Film Coating | (G) 2-propenoic acid, mixed esters with heterocyclic dimethanol and heterocyclic methanol.
P-17-0023 | 10/26/2016 | 1/24/2017 | CBI | (S) An Additive In Customized Electrolyte Formulations For Lithium Ion Batteries | (S) 1,3,2-dioxathiolane, 2,2-dioxide.
P-17-0024 | 10/26/2016 | 1/24/2017 | CBI | (G) Urethane Component | (G) Aromatic isocyanate, polymer with alkyloxirane polymer with oxirane ether with alkyldiol (2:1), and alkyloxirane polymer with oxirane ether with alkyltrioll (3:1).
P-17-0025 | 10/26/2016 | 1/24/2017 | CBI | (G) Urethane Component | (G) Aromatic isocyanate polymer with alkyloxirane, alkyloxirane polymer with oxirane ether with alkanetriol and oxirane.
P-17-0026 | 10/26/2016 | 1/24/2017 | CBI | (G) Industrial Ink Printing Applications | (G) Cycloaliphatic diamine, polymer with .alpha-hydro-.omega.-hydroxypoly(oxy-alkanediyl), .alpha-hydro-.omega.-hydroxypoly(oxy-alkanediyl), and cycloaliphatic diisocyanate.

For the 12 NOCs received by EPA during this period, Table 3 provides the following information (to the extent that such information is not claimed as CBI): The EPA case number assigned to the NOC; the date the NOC was received by EPA; the projected date of commencement provided by the submitter in the NOC; and the chemical identity.

Table 2—NOCs Received From October 3, 2016 to October 31, 2016
Case No. | Received date | Commencement date | Chemical
J-16-0010 | 10/21/2016 | 9/23/2016 | (G) Genetically modified saccharomyces yeast.
P-13-0239 | 10/12/2016 | 4/15/2014 | (G) Substituted cycloalkanemethanamine with [(morpholinyl)propylidene].
P-14-0098 | 10/18/2016 | 10/15/2016 | (G) Polyalkylene polymer, anhydride reaction products, imidated.
P-14-0712 | 10/19/2016 | 9/26/2016 | (S) Waste plastics, pyrolyzed, c5-55 fraction.
P-15-0524 | 10/27/2016 | 10/2/2016 | (S) Benzamide, 2-amino-5-cyano-n,3-dimethyl-.
P-16-0001 | 10/13/2016 | 9/25/2016 | (G) Poly[oxy(alkanediyl)],.alpha.,.alpha.′,.alpha.″-1,2,3-propanetriyltris[.omega.-(2-hydroxy-3-mercaptopropoxy)-.
P-16-0170 | 10/3/2016 | 9/30/2016 | (S) Carbon nanotubes.
P-16-0181 | 10/11/2016 | 7/22/2016 | (S) 2-butenoic acid, 3-amino-, 1,1′-(thiodi-2,1-ethanediyl) ester.
P-16-0182 | 10/15/2016 | 10/12/2016 | (S) Manganese, tris[-(2-ethylhexanoato-o:o′)]bis(octahydro-1,4,7-trimethyl-1h-1,4,7-triazonine-n1,n4,n7)- manganese, [-(acetato-o:o′)]bis[-(2-ethylhexanoato-o:o′)]bis(octahydro-1,4,7-trimethyl-1h-1,4,7-triazonine- n1,n4,n7)- manganese, bis[-(acetato-o:o′)][-(2-ethylhexanoato-o:o′)]bis(octahydro-1,4,7-trimethyl-1h-1,4,7-triazonine-n1,n4,n7)- manganese, tris[-(acetato-o:o′)]bis(octahydro-1,4,7-trimethyl-1h-1,4,7-triazonine-n1,n4,n7)-.
P-16-0240 | 10/6/2016 | 9/29/2016 | (G) Styrene(ated) copolymer with alkylmethacrylate, hydroxyalkylacrylate and acrylic acid.
P-16-0268 | 10/26/2016 | 10/19/2016 | (S) Fatty acids, c18-unsaturated, dimers, hydrogenated, polymers with n-[3-(dimethylamino)propyl] coco amides, n1,n1-dimethyl-1,3-dipropanediamine and epichlorohydrin.
P-16-0391 | 10/10/2016 | 10/3/2016 | (G) Polyester polyol polymer with aliphatic isocyanate and phenol derivatives.

Authority: 15 U.S.C. 2601 et seq.

Dated: November 17, 2016.
Pamela Myrick,
Information Management Division, Office of Pollution Prevention and Toxics.

[FR Doc. 2016-28568 Filed 11-25-16; 8:45 am]

BILLING CODE 6560-50-P